SURFACE TRANSPORTATION BOARD

[Docket No. FD 36393]

Raritan Central Railway, LLC—Lease and Operation Exemption—Consolidated Rail Corporation

Raritan Central Railway, LLC (RCRY), a Class III railroad, has filed a verified notice of exemption under 49 CFR 1150.41 to lease from Consolidated Rail Corporation (Conrail) and operate approximately 7.08 miles of rail lines in Middlesex County, N.J. (the Line), consisting of the following: (1) The Bonhamton Industrial Track, from the switch connection for the east and west legs of the Northeast Corridor wye, including the at-grade crossing of High Street, to its connection with the Raritan Industrial Track; (2) the Miracle Run Branch, from its connection with the Bonhamton Industrial Track to the end of Conrail's ownership in the vicinity of Vineyard Road; (3) the Raritan Industrial Track, from its connection with the Bonhamton Industrial Track to the east side of Crows Mill Road, including the at-grade crossing thereof; and (4) the Raritan Center Industrial Track, from its connection with the Raritan Industrial Track to a point 579 feet beyond the point of switch towards Heller Park, and to a point 150 feet beyond the clearance point of said switch towards the out of service track for headroom only.¹ RCRY states that the Line does not have mileposts because it runs through and in the vicinity of two industrial parks, the Raritan Center Industrial Park and the Heller Industrial Park.

¹ According to RCRY, the lease also includes the runaround track and all tracks comprising Upper Yard that are related to the Raritan Industrial Track, and Track Nos. 1-10 of Metuchen Yard and the Metuchen Yard Lead. RCRY states that these tracks are excepted under 49 U.S.C. 10906.

The verified notice states that RCRY entered into a lease with Conrail dated March 17, 2020, to provide common carrier rail service over the Line. The verified notice further states that RCRY will operate the Line after the transaction, although Conrail, the current operator of the Line, has reserved rights to operate over portions of the Line.

RCRY certifies that the lease does not impose or include an interchange commitment.

RCRY further certifies that its projected annual revenues as a result of the proposed transaction will not result in the creation of a Class II or Class I rail carrier and will not exceed $5 million.

The earliest this transaction may be consummated is April 17, 2020 (30 days after the verified notice of exemption was filed). If the verified notice contains false or misleading information, the exemption is void ab initio. Petitions to revoke the exemption under 49 U.S.C. 10502(d) may be filed at any time. The filing of a petition to revoke will not automatically stay the effectiveness of the exemption. Petitions for stay must be filed no later than April 10, 2020 (at least seven days before the exemption becomes effective).

All pleadings, referring to Docket No. FD 36393, must be filed with the Surface Transportation Board either via e-filing or in writing addressed to 395 E Street SW, Washington, DC 20423-0001. In addition, a copy of each pleading must be served on RCRY's representative: Eric M. Hocky, Clark Hill PLC, Two Commerce Square, 2001 Market Street, Suite 2620, Philadelphia, PA 19103.

According to RCRY, this action is categorically excluded from environmental review under 49 CFR 1105.7(e) and from historic preservation reporting requirements under 49 CFR 1105.8(b).

Board decisions and notices are available at www.stb.gov.

Decided: March 30, 2020.
By the Board, Allison C. Davis, Director, Office of Proceedings.
Regena Smith-Bernard,
Clearance Clerk.

[FR Doc. 2020-07015 Filed 4-2-20; 8:45 am]

BILLING CODE 4915-01-P